GENERAL SERVICES ADMINISTRATION

41 CFR Part 301-10

[FTR Amendment 112]

RIN 3090-AH77

Federal Travel Regulation; Privately Owned Vehicle Mileage Reimbursement

AGENCY: Office of Governmentwide Policy, GSA.

ACTION: Final rule.

SUMMARY: This final rule decreases the mileage reimbursement rate for use of a privately owned vehicle (POV) on official travel to reflect current costs of operation as determined in cost studies conducted by the General Services Administration (GSA). The governing regulation is revised to decrease the mileage allowance for advantageous use of a privately owned airplane from 97.5 to 95.5 cents per mile, the cost of operating a privately owned automobile from 36.5 to 36.0 cents per mile, and the cost of operating a privately owned motorcycle from 28.0 to 27.5 cents per mile.

DATES: Effective Date: January 1, 2003.

Applicability Date: This final rule applies to travel performed on or after January 1, 2003.

FOR FURTHER INFORMATION CONTACT: The Regulatory Secretariat, Room 4035, GSA Building, Washington, DC, 20405, (202) 208-7312, for information pertaining to status or publication schedules. For clarification of content, contact Devoanna R. Reels, Program Analyst, Office of Governmentwide Policy, Travel Management Policy, at (202) 501-3781. Please cite FTR Amendment 112.

SUPPLEMENTARY INFORMATION:

A. Background

Pursuant to 5 U.S.C. 5707(b), the Administrator of General Services has the responsibility to establish the privately owned vehicle (POV) mileage reimbursement rates. Separate rates are set for airplanes, automobiles (including trucks), and motorcycles. In order to set these rates, GSA is required to conduct periodic investigations. Subsection (b) of section 5707 of title 5, U.S.C., requires the Administrator of General Services, in consultation with the Secretaries of Defense and Transportation, and representatives of Government employee organizations, to periodically investigate the cost of travel and the operation of POVs to employees while engaged on official business. As required, GSA conducted an investigation of the costs of operating a POV and is reporting the cost per mile determination. The results of the investigation have been reported to Congress, and a copy of the report appears as an attachment to this document. The report is being published to comply with the requirements of the law. GSA's cost studies show the Administrator of General Services has determined the per-mile operating costs of a POV to be 95.5 cents for airplanes, 36.0 cents for automobiles, and 27.5 cents for motorcycles. As provided in 5 U.S.C. 5704(a)(1), the automobile reimbursement rate cannot exceed the single standard mileage rate established by the Internal Revenue Service (IRS). The IRS has announced a new single standard mileage rate for automobiles of 36.0 cents effective January 1, 2003.

B. Regulatory Flexibility Act

This final rule is not required to be published in the Federal Register for notice and comment; therefore, the Regulatory Flexibility Act does not apply.

C. Executive Order 12866

GSA has determined that this final rule is not a significant regulatory action for the purposes of Executive Order 12866 of September 30, 1993.

D. Paperwork Reduction Act

The Paperwork Reduction Act does not apply because this final rule does not impose recordkeeping or information collection requirements, or the collection of information from offerors, contractors, or members of the public which require the approval of the Office of Management and Budget (OMB) under 44 U.S.C. 3501, et seq.

E. Small Business Regulatory Enforcement Fairness Act

This final rule is also exempt from congressional review prescribed under 5 U.S.C. 801 since it relates solely to agency management and personnel.

List of Subjects in 41 CFR Part 301-10

Government employees, Travel and transportation expenses.

Dated: December 24, 2002.
Stephen A. Perry,
Administrator of General Services.

For the reasons set forth in the preamble, amend 41 CFR part 301-10 as set forth below:

PART 301-10—TRANSPORTATION EXPENSES

1. The authority citation for 41 CFR part 301-10 is revised to read as follows:

Authority: 5 U.S.C. 5707; 40 U.S.C. 121(c); 49 U.S.C. 40118.

2. Revise section 301-10.303 to read as follows:

§ 301-10.303 What am I reimbursed when use of a POV is determined by my agency to be advantageous to the Government?

For use of a | Your reimbursement is
Privately owned aircraft (e.g., helicopter, except an airplane) | Actual cost of operation (i.e., fuel, oil, plus the additional expenses listed in § 301-10.304).
Privately owned airplane | 195.5.¹
Privately owned automobile | 136.0.¹
Privately owned motorcycle | 127.5.¹
¹ Cents per mile.

Attachment to Preamble—Report to Congress on the Costs of Operating Privately Owned Vehicles

Subparagraph (b)(1)(A) of section 5707 of Title 5, United States Code, requires that the Administrator of General Services, in consultation with the Secretaries of Defense and Transportation, and representatives of Government employee organizations, conduct periodic investigations of the cost of travel and the operation of privately owned vehicles (POVs) (airplanes, automobiles, and motorcycles) to Government employees while on official business and report the results to Congress at least once a year. Subparagraph (b)(2)(B) of section 5707 of Title 5, United States Code, further requires that the Administrator of General Services determine the average, actual cost per mile for the use of each type of POV based on the results of the cost investigation. Such figures must be reported to Congress within 5 working days after the cost determination has been made in accordance with 5 U.S.C. 5707(b)(2)(C).

Pursuant to the requirements of subparagraph (b)(1)(A) of section 5707 of Title 5, United States Code, the General Services Administration (GSA), in consultation with the Secretaries of Defense and Transportation, and representatives of Government employee organizations, conducted an investigation of the cost of operating a privately owned automobile (POA). As provided in 5 U.S.C. 5704(a)(1), the automobile reimbursement rate cannot exceed the single standard mileage rate established by the Internal Revenue Service (IRS). The IRS has announced a new single standard mileage rate for automobiles of 36.0 cents effective January 1, 2003.

As required, GSA is reporting the results of the investigation and the cost per mile determination. Based on cost studies conducted by GSA, I have determined the per-mile operating costs of a POV to be 95.5 cents for airplanes, 36.0 cents for automobiles, and 27.5 cents for motorcycles.

I have issued a regulation decreasing the current 97.5 to 95.5 cents for privately owned airplanes, 36.5 to 36.0 cents for privately owned automobiles, and 28.0 to 27.5 cents for privately owned motorcycles. This report to Congress on the cost of operating POVs will be published in the Federal Register.

[FR Doc. 03-136 Filed 1-3-03; 8:45 am]

BILLING CODE 6820-24-P